DEPARTMENT OF TRANSPORTATION

Federal Highway Administration

Notice of Final Federal Agency Actions on Proposed Highway in California

AGENCY: Federal Highway Administration (FHWA), DOT.

ACTION: Notice of Limitation on Claims for Judicial Review of Actions by the FHWA pursuant to 23 U.S.C. 139 and other Federal agencies.

SUMMARY: The FHWA is issuing this notice to announce actions taken by FHWA and other Federal agencies that are final within the meaning of 23 U.S.C. 139 (l)(1). The actions relate to a proposed new freeway project: Mid County Parkway (MCP) that will be located in western Riverside County, State of California. Those actions grant licenses, permits, and approvals for the project.

DATES: By this notice, the FHWA is advising the public of final agency actions subject to 23 U.S.C. 139 (l)(1). A claim seeking judicial review of the Federal agency actions on the new freeway project will be barred unless the claim is filed on or before January 25, 2016. If the Federal law that authorizes judicial review of a claim provides a time period of less than 150 days for filing such claim, then that shorter time period still applies.

FOR FURTHER INFORMATION CONTACT: Mr. Tay Dam, FHWA California Division, 888 S. Figueroa St., Ste. 750, Los Angeles, CA. 90017, by phone at (213) 894-4500 or email at tay.dam@dot.gov; Ms. Marie Petry, California Department of Transportation, 464 W. 4th St., San Bernardino, CA 92401, by phone at (909) 383-4631, email marie.petry@dot.ca.gov; Mr. Alex Menor, Riverside County Transportation Commission, 4080 Lemon St. 3rd Floor, Riverside, CA 92502, by phone at (951) 787-7141, email amenor@rctc.org. Normal business hours are from 8:00 a.m. to 4:00 p.m.

SUPPLEMENTARY INFORMATION: Notice is hereby given that FHWA has taken final agency actions subject to 23 U.S.C. 139 (l) (1) by issuing licenses, permits and approvals for the following new freeway project in the State of California: The MCP project is a new east-west freeway which will provide a direct and continuous route connecting major population/employment centers as identified in the Land Use Elements of the County of Riverside General Plan and the General Plans of the Cities of Perris and San Jacinto, a distance of approximately 14.3 miles, between Interstate 215 (I-215) in the west and State Route 79 (SR-79) in the east. The MCP project will be a six-lane freeway (three lanes in each direction) with systems interchanges at I-215 and SR-79 as well as 11 service interchanges that will connect the MCP project to the local circulation system. The environmental effects of the MCP Project are evaluated and described in the Final Environmental Impact Report (EIR)/Environmental Impact Statement (EIS), a joint document pursuant to the California Environmental Quality Act and the National Environmental Policy Act. Key issues identified in the Final EIR/EIS include impacts to community character and cohesion, growth-related effects, biological resources, aquatic resources, cultural resources, aesthetics, residential relocations, business relocations, traffic noise, and temporary construction effects. Measures to avoid, minimize, and mitigate adverse environmental effects are included in the Environmental Commitments Record in the Final EIR/EIS. The Final EIR/EIS identified Alternative 9 Modified with the San Jacinto River Bridge Design Variation and the Base Case Alignment through the City of San Jacinto, and, as further refined, to avoid the permanent incorporation of land from the San Jacinto Wildlife Area, as the preferred alternative.

The actions by the Federal agencies, and the laws under which such actions were taken, are described in the Final EIR/EIS for the project, approved on April 15, 2015, in the FHWA Record of Decision (ROD) issued on August 17, 2015, and in other documents in the FHWA project records. The Final EIR/EIS, ROD, and other project records are available by contacting FHWA at the address provided above. The Final EIR/EIS and ROD can be viewed and downloaded from the project Web site at http://midcountyparkway.org/ or viewed at public libraries in the project area.

This notice applies to all Federal agency decisions as of the issuance date of this notice and all laws under which such actions were taken, including but not limited to:

1. General: National Environmental Policy Act (NEPA) (42 U.S.C. 4321-4351 et seq.).

2. Council on Environmental Quality Regulations.

3. Federal-Aid Highway Act of 1970, 23 U.S.C. 109.

4. MAP-21, the Moving Ahead for Progress in the 21st Century Act.

5. Clean Air Act (42 U.S.C. 7401-7671(q)).

6. Migratory Bird Treaty Act (16 U.S.C. 703-712).

7. Historic and Cultural Resources: Section 106 of the National Historic Preservation Act of 1966, as amended (16 U.S.C. 470(f) et seq.).

8. Clean Water Act (Section 401) (33 U.S.C. 1251-1377) of 1977 and 1987 (Federal Water Pollution Control Act of 1972).

9. Federal Endangered Species Act of 1973 (16 U.S.C. 1531-1543).

10. Fish and Wildlife Coordination Act of 1934, as amended.

11. Noise Control Act of 1972.

12. Safe Drinking Water Act of 1944, as amended.

13. Executive Order 11990—Protection of Wetlands

14. Executive Order 11988—Floodplain Management

15. Executive Order 13112, Invasive Species.

16. Executive Order 12898, Federal Actions to Address Environmental Justice and Low-Income Populations

17. Title VI of the Civil Rights Act of 1964, as amended.

18. Department of Transportation Act of 1966, Section 4(f) (49 U.S.C. 303)

(Catalog of Federal Domestic Assistance Program Number 20.205, Highway Planning and Construction. The regulations implementing E. O. 12372 regarding intergovernmental consultation on Federal programs and activities apply to this program.)

Authority: 23 U.S.C. 139 (l)(1).

Shawn Oliver,
Acting Director, Program Development, Federal Highway Administration, Sacramento, California.

[FR Doc. 2015-20697 Filed 8-25-15; 8:45 am]

BILLING CODE 4910-RY-P